ENVIRONMENTAL PROTECTION AGENCY

[EPA-HQ-OAR-2006-0482; FRL-8183-9]

Agency Information Collection Activities; Proposed Collection; Comment Request; EPA-ICR No. 1774.03, OMB Control No. 2060-0350

AGENCY: Environmental Protection Agency (EPA).

ACTION: Notice.

SUMMARY: In compliance with the Paperwork Reduction Act (PRA) (44 U.S.C. 3501 et seq.), this document announces that EPA is planning to submit a request to renew an existing approved Information Collection Request (ICR) to the Office of Management and Budget (OMB). This ICR is scheduled to expire on September 30, 2006. Before submitting the ICR to OMB for review and approval, EPA is soliciting comments on specific aspects of the proposed information collection as described below.

DATES: Comments must be submitted on or before August 14, 2006.

ADDRESSES: Submit your comments, identified by Docket ID No. EPA-HQ-2006-0482 by one of the following methods:

• http://www.regulations.gov: Follow the on-line instructions for submitting comments.

• E-mail: a-and-r-Docket@epa.gov.

• Fax: 202-566-1741

• Mail: Environmental Protection Agency, EPA Docket Center (EPA/DC), Mailcode 6102T, Attention Docket ID No. OAR, 1200 Pennsylvania Avenue, NW., Washington, DC 20460

• Hand Delivery: Public Reading Room, Room B102, EPA West Building, 1301 Constitution Avenue, NW., Washington, DC.

Such deliveries are only accepted during the Docket's normal hours of operation, and special arrangements should be made for deliveries of boxed information.

Instructions: Direct your comments to Docket ID No. EPA-HQ-OAR-2006-0482. EPA's policy is that all comments received will be included in the public docket without change and may be made available online at http://www.regulations.gov, including any personal information provided, unless the comment includes information claimed to be Confidential Business Information (CBI) or other information whose disclosure is restricted by statute. Do not submit information that you consider to be CBI or otherwise protected through www.regulations.gov or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

FOR FURTHER INFORMATION CONTACT: Karen Thundiyil, Environmental Protection Agency, Stratospheric Protection Division, Office of Atmospheric Programs, MC 6205J, 1200 Pennsylvania Ave., NW., Washington, DC 20460; telephone number: (202) 343.9464; fax number: (202) 343.2363; e-mail address: Thundiyil.Karen@epa.gov.

SUPPLEMENTARY INFORMATION:

How Can I Access the Docket and/or Submit Comments?

EPA has established a public docket for this ICR under Docket ID No. EPA-HQ-2006-0482, which is available for online viewing at http://www.regulations.gov, or in person viewing at the Air and Radiation Docket in the EPA Docket Center (EPA/DC), EPA West, Room B102, 1301 Constitution Ave., NW., Washington, DC. The EPA/DC Public Reading Room is open from 8 a.m. to 4:30 p.m., Monday through Friday, excluding legal holidays. The telephone number for the Reading Room is 202-566-1744, and the telephone number for the Air and Radiation Docket is 202-566-1742.

Use http://www.regulations.gov to obtain a copy of the draft collection of information, submit or view public comments, access the index listing of the contents of the docket, and to access those documents in the public docket that are available electronically. Once in the system, select “search,” then key in the docket ID number identified in this document.

What Information Is EPA Particularly Interested In?

Pursuant to section 3506(c)(2)(A) of the PRA, EPA specifically solicits comments and information to enable it to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

What Should I Consider When I Prepare My Comments for EPA?

You may find the following suggestions helpful for preparing your comments:

1. Explain your views as clearly as possible and provide specific examples.

2. Describe any assumptions that you used.

3. Provide copies of any technical information and/or data you used that support your views.

4. If you estimate potential burden or costs, explain how you arrived at the estimate that you provide.

5. Offer alternative ways to improve the collection activity.

6. Make sure to submit your comments by the deadline identified under DATES.

7. To ensure proper receipt by EPA, be sure to identify the docket ID number assigned to this action in the subject line on the first page of your response. You may also provide the name, date, and Federal Register citation.

What Information Collection Activity or ICR Does This Apply to?

[Docket ID No. EPA-HQ-OAR-2006-0482]

Affected entities: Entities potentially affected by this action are new and used car dealers, gas service stations, top and body repair shops, general automotive repair shops, automotive repair shops not elsewhere classified, including air conditioning and radiator specialty shops.

Title: Information Collection Activities Associated with EPA's Mobile Air Conditioner Retrofitting Program.

ICR numbers: EPA ICR No. 1774.03, OMB Control No. 2060-0350.

ICR status: This ICR is currently scheduled to expire on September 30, 2006. An Agency may not conduct or sponsor, and a person is not required to respond to, a collection of information, unless it displays a currently valid OMB control number. The OMB control numbers for EPA's regulations in Title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: EPA's Significant New Alternatives Policy (SNAP) program implements section 612 of the 1990 Clean Air Act Amendments which authorized the Agency to establish regulatory requirements to insure that ozone depleting substances would be replaced by alternatives that reduce overall risks to human health and the environment, and to promote an expedited transition to safe substitutes. To promote this transition, the Act specified that EPA establish an information clearinghouse of available alternatives, and coordinate with other Federal agencies and the public on research, procurement practices, and information and technology transfers.

Since the program's inception in 1994, SNAP has reviewed over 400 new chemicals and alternative manufacturing processes for a wide range of consumer, industrial, space exploration, and national security applications. Roughly 90% of alternatives submitted to EPA for review have been listed as acceptable for a specific use, typically with some condition or limit to minimize risks to human health and the environment.

Regulation promulgated under SNAP requires that mobile air conditioners (MAC) retrofitted to use a SNAP substitute refrigerant include basic information on a label to be affixed to the air conditioner. The label includes the name of the substitute refrigerant, when and by whom the retrofit was performed, environmental and safety information about the substitute refrigerant, and other information. This information is needed so that subsequent technicians working on the MAC system will be able to service the equipment properly, decreasing the likelihood of significant refrigerant cross-contamination and potential failure of air conditioning systems and recovery/recycling equipment.

Burden Statement: The annual public reporting and recordkeeping burden for this collection of information is estimated to average 5 minutes per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The ICR provides a detailed explanation of the Agency's estimate. This estimate is based on the Agency's 2003 estimate. The Agency welcomes comments from the public that describe and document how the reporting and recordkeeping burden has changed since 2003. The 2003 estimate is summarized here:

Estimated total number of potential respondents: 87,000.

Frequency of response: Once per and upon retrofit of a motor vehicle air conditioner.

Estimated total annual burden hours: 83,333 hours.

Estimated total annual costs: $5,933,333, which includes $100,000 annualized capital or O&M costs and $5,833,333 labor costs.

In 2003, the U.S. Department of Labor statistics indicated there were 168,630 automotive body and related repairers (Standard Occupation Classification [SOC] System Code Number 49-3021) and 701,150 automotive service technicians and mechanics (SOC Code Number 49-3023) in the U.S. EPA estimated that 87,000 of them, or approximately 10% of the total, would be responsible for retrofitting the estimated 3,000,000 MACs over the three-year term of the previous ICR.

In 2003, EPA estimated the time to complete and apply the label at 5 minutes per MAC, making the total burden 250,000 hours (83,333 hours and 20 minutes per year). At an estimated average labor rate of $70 per hour, the overall cost associated with the burden hours is $17,500,000 ($5,833,333.33 per year). The cost for designing, typesetting, printing and distributing 3,000,000 labels is estimated at $0.10 per label to be $300,000 ($100,000 per year). Adding the labor and capital costs together yields a total cost burden of $17,800,000 ($5,933,333.33 per year).

The Agency welcomes public comment on the number of CFC-12 MACs that will undergo a retrofit, the number of MAC service technicians performing such service, the average labor rate of MAC service technicians from 2006 to 2009 and any other relevant information.

Are There Changes in the Estimates From the Last Approval?

This estimate is the same estimate used in 2003. The Agency requests public comment on how the number of estimated total respondent burden has changed since 2003. EPA expects that there will be a smaller burden in 2006 because fewer CFC-12 mobile air conditioners will be retrofitted.

What Is the Next Step in the Process for This ICR?

EPA will consider the comments received and amend the ICR as appropriate. The final ICR package will then be submitted to OMB for review and approval pursuant to 5 CFR 1320.12. At that time, EPA will issue another Federal Register notice pursuant to 5 CFR 1320.5(a)(1)(iv) to announce the submission of the ICR to OMB and the opportunity to submit additional comments to OMB. If you have any questions about this ICR or the approval process, please contact the technical person listed under FOR FURTHER INFORMATION CONTACT.

Dated: June 5, 2006.
Brian J. McLean,
Director, Office of Atmospheric Programs.

[FR Doc. E6-9316 Filed 6-14-06; 8:45 am]

BILLING CODE 6560-50-P